ENVIRONMENTAL PROTECTION AGENCY

[OPP-2004-0205; FRL-7685-9]

Pesticides; Implementation of Globally Harmonized System; Notice of Availability; Extension of Comment Period

AGENCY: Environmental Protection Agency (EPA).

ACTION: Notice; extension of comment period.

SUMMARY: EPA issued a notice in the Federal Register of August 25, 2004, announcing the availability for comment of a White Paper entitled, The Globally Harmonized System of Classification and Labeling of Chemicals: Implementation Planning Issues for the Office of Pesticide Programs. In response to requests from commenters, this document is extending the comment period for 45 days, from October 25, 2004, to December 6, 2004.

DATES: Comments, identified by docket identification (ID) number OPP-2004-0205, must be received on or before December 6, 2004.

ADDRESSES: Comments may be submitted electronically, by mail, or through hand delivery/courier. Follow the detailed instructions as provided in Unit I. of the SUPPLEMENTARY INFORMATION of the August 25, 2004 Federal Register document.

FOR FURTHER INFORMATION CONTACT: Mary Frances Lowe, Field and External Affairs Division (7506C), Office of Pesticide Programs, Environmental Protection Agency, 1200 Pennsylvania Ave., NW., Washington, DC 20460-0001; telephone number: (703) 305-5689; e-mail address: lowe.maryfrances@epa.gov.

SUPPLEMENTARY INFORMATION:

I. General Information

A. Does this Action Apply to Me?

The Agency included in the August 25, 2004 Federal Register notice a list of those who may be potentially affected by this action. If you have questions regarding the applicability of this action to a particular entity, consult the person listed under FOR FURTHER INFORMATION CONTACT.

B. How Can I Get Copies of this Document and Other Related Information?

1. Docket. EPA has established an official public docket for this action under docket ID number OPP-2004-0205. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

C. How and to Whom Do I Submit Comments?

To submit comments, or access the official public docket, please follow the detailed instructions as provided in Unit I. of the SUPPLEMENTARY INFORMATION of the August 25, 2004 Federal Register document. If you have questions, consult the person listed under FOR FURTHER INFORMATION CONTACT.

II. What Action is EPA Taking?

This document extends the public comment period established in the Federal Register of August 25, 2004 (69 FR 52262) (FRL-7367-3). In that document, EPA issued for comment a White Paper entitled, The Globally Harmonized System of Classification and Labeling of Chemicals: Implementation Planning Issues for the Office of Pesticide Programs. EPA is hereby extending the comment period, which was set to end on October 25, 2004, to December 6, 2004.

III. What is the Agency's Authority for Taking this Action?

The Federal Insecticide, Fungicide, and Rodenticide Act (FIFRA), 7 U.S.C. 136-136y, provides this authority.

List of Subjects

Environmental protection, Labeling, Occupational safety and health, Pesticides and pests, Reporting and recordkeeping requirements.

Dated: October 19, 2004.
James Jones,
Director, Office of Pesticide Programs.

[FR Doc. 04-23836 Filed 10-20-04; 2:16 pm]

BILLING CODE 6560-50-S